DEPARTMENT OF DEFENSE

Office of the Secretary

Revised Non-Foreign Overseas Per Diem Rates

AGENCY: DoD, Per Diem, Travel and Transportation Allowance Committee.

ACTION: Notice of revised non-foreign overseas per diem rates.

SUMMARY: The Per Diem, Travel and Transportation Allowance Committee is publishing Civilian Personnel Per Diem Bulletin Number 214. This bulletin lists revisions in the per diem rates prescribed for U.S. Government employees for official travel in Alaska, Hawaii, Puerto Rico, the Northern Mariana Islands and Possessions of the United States. AEA changes announced in Bulletin Number 194 remain in effect. Bulletin Number 214 is being published in the Federal Register to assure that travelers are paid per diem at the most current rates.

EFFECTIVE DATE: March 1, 2000.

SUPPLEMENTARY INFORMATION: This document gives notice of revisions in per diem rates prescribed by the Per Diem Travel and Transportation Allowance Committee for non-foreign areas outside the continental United States. It supersedes Civilian Personnel Per Diem Bulletin Number 213. Distribution of Civilian Personnel Per Diem Bulletins by mail was discontinued. Per Diem Bulletins published periodically in the Federal Register now constitute the only notification of revisions in per diem rates to agencies and establishments outside the Department of Defense. For more information or questions about per diem rates, please contact your local travel office. The text of the Bulletin follows:

Maximum Per Diem Rates for Official Travel in Alaska, Hawaii, the Commonwealths of Puerto Rico and the Northern Mariana Islands and Possessions of the United States by Federal Government Civilian Employees
Locality | Maximum lodging amount |  | M&IE rate |  | Maximum per diem rate | Effective date
| (A) | + | (B) | = | (C) |
The only changes in Civilian Bulletin 214 Updates Rates for Alaska and American Samoa.
Alaska:
Anchorge [Incl NAV RES]:
05/01-09/15 | 161 |  | 68 |  | 229 | 01/01/2000
09/16-04/30 | 80 |  | 68 |  | 140 | 01/01/2000
Barrow | 115 |  | 73 |  | 188 | 03/01/1999
Bethel | 92 |  | 65 |  | 157 | 01/01/2000
Clear AB | 80 |  | 54 |  | 134 | 01/01/2000
Cold Bay | 140 |  | 73 |  | 213 | 01/01/2000
Coldfoot | 135 |  | 71 |  | 206 | 10/01/1999
Cordova | 80 |  | 72 |  | 152 | 03/01/2000
Craig:
05/01-08/31 | 95 |  | 66 |  | 161 | 10/01/1998
09/01-04/30 | 79 |  | 64 |  | 143 | 10/01/1998
Deadhorse | 80 |  | 67 |  | 147 | 03/01/1999
Denali National Park:
06/01-08/31 | 125 |  | 56 |  | 181 | 01/01/2000
09/01-05/31 | 90 |  | 53 |  | 143 | 01/01/2000
Dillingham | 100 |  | 58 |  | 158 | 01/01/2000
Dutch Harbor-Unalaska | 110 |  | 71 |  | 181 | 03/01/1999
Eareckson Air Station | 80 |  | 54 |  | 134 | 01/01/2000
Eielson AFB:
05/01-09/15 | 149 |  | 62 |  | 211 | 01/01/2000
09/16-04/30 | 75 |  | 55 |  | 130 | 01/01/2000
Elmendorf AFB:
05/01-09/15 | 161 |  | 68 |  | 229 | 01/01/2000
09/16-04/30 | 80 |  | 60 |  | 140 | 01/01/2000
Fairbanks:
05/01-09/15 | 149 |  | 62 |  | 211 | 01/01/2000
09/16-04/30 | 75 |  | 55 |  | 130 | 01/01/2000
Ft. Richardson:
05/01-09/15 | 161 |  | 68 |  | 229 | 01/01/2000
09/16-04/30 | 80 |  | 60 |  | 140 | 01/01/2000
Ft. Wainwright:
05/01-09/15 | 149 |  | 62 |  | 211 | 01/01/2000
09/16-04/30 | 75 |  | 55 |  | 130 | 01/01/2000
Glennallen | 94 |  | 54 |  | 148 | 01/01/2000
Healy:
06/01-08/31 | 125 |  | 56 |  | 181 | 01/01/2000
09/01-05/31 | 90 |  | 53 |  | 143 | 01/01/2000
Homer:
04/30-10/03 | 119 |  | 65 |  | 184 | 03/01/2000
10/04-04/29 | 69 |  | 60 |  | 129 | 03/01/2000
Juneau | 95 |  | 66 |  | 161 | 01/01/2000
Kaktovik | 165 |  | 75 |  | 240 | 01/01/2000
Kavik Camp | 125 |  | 69 |  | 194 | 03/01/1999
Kenai-Soldotna:
04/01-10/31 | 104 |  | 65 |  | 169 | 01/01/2000
11/01-03/31 | 67 |  | 61 |  | 128 | 01/01/2000
Kennicott | 149 |  | 68 |  | 217 | 10/01/1998
Ketchikan:
04/01-10/15 | 104 |  | 71 |  | 175 | 01/01/2000
10/16-03/31 | 80 |  | 69 |  | 149 | 01/01/2000
King Salmon:
05/01-10/01 | 160 |  | 88 |  | 248 | 01/01/2000
10/02-04/30 | 100 |  | 82 |  | 182 | 01/01/2000
Klawock:
05/01-08/31 | 95 |  | 66 |  | 161 | 10/01/1998
09/01-04/30 | 79 |  | 64 |  | 143 | 10/01/1998
Kodiak | 90 |  | 68 |  | 158 | 01/01/2000
Kotzebue:
05/01-08/31 | 137 |  | 63 |  | 200 | 01/01/2000
09/01-04/30 | 95 |  | 54 |  | 149 | 01/01/2000
Kulis AGS:
05/01-09/15 | 161 |  | 68 |  | 229 | 01/01/2000
09/16-04/30 | 80 |  | 60 |  | 140 | 01/01/2000
McCarthy | 149 |  | 68 |  | 217 | 10/01/1998
Metlakatla:
05/30-10/01 | 85 |  | 52 |  | 137 | 03/01/1999
10/02-05/29 | 78 |  | 51 |  | 129 | 03/01/1999
Murphy Dome:
05/01-09/15 | 149 |  | 62 |  | 211 | 01/01/2000
09/16-04/30 | 75 |  | 55 |  | 130 | 01/01/2000
Nome | 85 |  | 58 |  | 143 | 01/01/2000
Nuiqsut | 120 |  | 47 |  | 167 | 01/01/2000
Petersburg | 87 |  | 57 |  | 144 | 03/01/1999
Point Hope | 130 |  | 70 |  | 200 | 03/01/1999
Point Lay | 105 |  | 67 |  | 172 | 03/01/1999
Prudhoe Bay | 80 |  | 67 |  | 147 | 03/01/1999
Seward:
05/01-09/15 | 119 |  | 75 |  | 194 | 03/01/2000
09/16-04/30 | 75 |  | 71 |  | 146 | 03/01/2000
Sitka-Mt. Edgecombe:
05/16-09/16 | 139 |  | 73 |  | 212 | 01/01/2000
09/17-05/15 | 129 |  | 72 |  | 201 | 01/01/2000
Skagway:
04/01-10/15 | 104 |  | 71 |  | 175 | 01/01/2000
10/16-03/31 | 80 |  | 69 |  | 149 | 01/01/2000
Spruce Cape | 90 |  | 68 |  | 158 | 01/01/2000
Tanana | 85 |  | 58 |  | 143 | 01/01/2000
Umiat | 107 |  | 33 |  | 140 | 03/01/1999
Valdez:
05/01-10/01 | 117 |  | 68 |  | 185 | 01/01/2000
10/02-04/30 | 99 |  | 66 |  | 165 | 01/01/2000
Wainwright | 111 |  | 81 |  | 192 | 01/01/2000
Wasilla | 95 |  | 60 |  | 155 | 01/01/2000
Wrangell:
04/01-10/15 | 104 |  | 71 |  | 175 | 01/01/2000
10/16-03/31 | 80 |  | 69 |  | 149 | 01/01/2000
Yakutat | 110 |  | 68 |  | 178 | 03/01/1999
[Other] | 80 |  | 54 |  | 134 | 01/01/2000
American Samoa:
American Samoa | 85 |  | 67 |  | 152 | 03/01/2000
Guam:
Guam (Incl All Mil Instal) | 135 |  | 79 |  | 214 | 01/01/2000
Hawaii:
Camp HM Smith | 99 |  | 61 |  | 160 | 01/01/2000
Eastpack Naval Comp Tele Area | 99 |  | 61 |  | 160 | 01/01/2000
Ft. Derussey | 99 |  | 61 |  | 160 | 01/01/2000
Ft. Shafter | 99 |  | 61 |  | 160 | 01/01/2000
Hickam AFB | 99 |  | 61 |  | 160 | 01/01/2000
Honolulu (Incl NAV & MC Res Ctr) | 99 |  | 61 |  | 160 | 01/01/2000
Isle of Hawaii: Hilo | 71 |  | 50 |  | 121 | 01/01/2000
Isle of Hawaii: Other | 89 |  | 50 |  | 139 | 01/01/2000
Isle of Kauai:
05/01-11/30 | 103 |  | 58 |  | 161 | 01/01/2000
12/01-04/30 | 131 |  | 61 |  | 192 | 01/01/2000
Isle of Kure | 65 |  | 41 |  | 106 | 05/01/1999
Isle of Maui | 100 |  | 64 |  | 164 | 01/01/2000
Isle of Oahu | 99 |  | 61 |  | 160 | 01/01/2000
Kaneohe Bay MC Base | 99 |  | 61 |  | 160 | 01/01/2000
Kekaha Pacific Missile Range Fac:
05/01-11/30 | 103 |  | 58 |  | 161 | 01/01/2000
12/01-04/30 | 131 |  | 61 |  | 192 | 01/01/2000
Kilauea Military Camp | 71 |  | 50 |  | 121 | 01/01/2000
Lualualei Naval Magazine | 99 |  | 61 |  | 160 | 01/01/2000
NAS Barbers Point | 99 |  | 61 |  | 160 | 01/01/2000
Pearl Harbor [Incl All Military] | 99 |  | 61 |  | 160 | 01/01/2000
Schofield Barracks | 99 |  | 61 |  | 160 | 01/01/2000
Wheeler Army Airfield | 99 |  | 61 |  | 160 | 01/01/2000
[Other] | 72 |  | 61 |  | 133 | 01/01/2000
Johnston Atoll:
Johnston Atoll | 13 |  | 9 |  | 22 | 10/01/1998
Midway Islands:
Midway Islands [Incl All Military] | 150 |  | 47 |  | 197 | 02/01/2000
Northern Mariana Islands:
Rota | 88 |  | 69 |  | 157 | 01/01/2000
Saipan | 140 |  | 87 |  | 227 | 01/01/2000
[Other] | 55 |  | 62 |  | 117 | 01/01/2000
Puerto Rico:
Bayamon:
04/11-12/23 | 155 |  | 71 |  | 226 | 01/01/2000
12/24-04/10 | 195 |  | 75 |  | 270 | 01/01/2000
Carolina:
04/11-12/23 | 155 |  | 71 |  | 226 | 01/01/2000
12/24-04/10 | 195 |  | 75 |  | 270 | 01/01/2000
Fajardo [Incl Ceiba & Luquillo] | 82 |  | 54 |  | 136 | 01/01/2000
Ft. Buchanan [Incl GSA Svc Ctr:
04/11-12/23 | 155 |  | 71 |  | 226 | 01/01/2000
12/24-04/10 | 195 |  | 75 |  | 270 | 01/01/2000
Humacao | 82 |  | 54 |  | 136 | 01/01/2000
Luis Munoz marin IAP AGS:
04/11-12/23 | 155 |  | 71 |  | 226 | 01/01/2000
12/24-04/10 | 195 |  | 75 |  | 270 | 01/01/2000
Mayaguez | 85 |  | 59 |  | 144 | 01/01/2000
Ponce | 96 |  | 69 |  | 165 | 01/01/2000
Roosevelt Rds & Nav Sta | 82 |  | 54 |  | 136 | 01/01/2000
Sabana Seca [Incl all Military]:
04/11-12/23 | 155 |  | 71 |  | 226 | 01/01/2000
12/24-04/10 | 195 |  | 75 |  | 270 | 01/01/2000
San Juan & NAV RES Sta:
04/11-12/23 | 155 |  | 71 |  | 226 | 01/01/2000
12/24-04/10 | 195 |  | 75 |  | 270 | 01/01/2000
[Other] | 62 |  | 57 |  | 119 | 01/01/2000
Virgin Islands (U.S.):
St. Croix:
04/15-12/14 | 93 |  | 72 |  | 165 | 01/01/2000
12/15-04/14 | 129 |  | 76 |  | 205 | 01/01/2000
St. John:
04/15-12/14 | 219 |  | 84 |  | 303 | 01/01/2000
12/15-04/14 | 382 |  | 100 |  | 482 | 01/01/2000
St. Thomas:
04/15-12/14 | 163 |  | 73 |  | 236 | 01/01/2000
12/15-04/14 | 288 |  | 86 |  | 374 | 01/01/2000
Wake Island:
Wake Island | 60 |  | 32 |  | 92 | 09/01/1998

Dated: February 23, 2000.
L.M. Bynum,
Alternate OSD Federal Register Liaison Officer, Department of Defense.

[FR Doc. 00-4675 Filed 2-28-00; 8:45 am]

BILLING CODE 5001-10-M